DEPARTMENT OF THE TREASURY

Internal Revenue Service

Low Income Taxpayer Clinic Grant Program; Availability of 2004 Grant Application Package

AGENCY: Internal Revenue Service (IRS), Treasury.

ACTION: Notice.

SUMMARY: This document contains a Notice that the IRS has made available the grant application package (Publication 3319) for parties interested in applying for a Low Income Taxpayer Clinic Grant for the 2004 grant cycle. The IRS will award a total of up to $6,000,000 or the amount appropriated by Congress to qualifying organizations.

DATES: Grant applications for the 2004 grant cycle must be received by the IRS (not postmarked) by July 1, 2003. Applications may be transmitted by mail or electronically.

ADDRESSES: Send completed grant applications to: Internal Revenue Service, Taxpayer Advocate Service, LITC Program Office Mail Stop 211-D, 401 W. Peachtree St. NW., Atlanta, GA 30308. To transmit an application electronically, go to www.irs.gov/advocate. Copies of the grant application package (IRS Publication 3319) can be downloaded from the IRS Internet site at: www.irs.gov/advocate or ordered by calling 1-800-829-3676.

FOR FURTHER INFORMATION CONTACT: The LITC Program Office at 404-338-7185 (not a toll-free number) or by email at LITCProgramOffice@irs.gov.

SUPPLEMENTARY INFORMATION:

Background

Section 7526 of the Internal Revenue Code authorizes the IRS, subject to the availability of appropriated funds, to award organizations matching grants of up to $100,000 for the development, expansion, or continuation of qualified low income taxpayer clinics. Section 7526 authorizes the IRS to provide grants to qualified organizations that represent low income taxpayers in controversies with the IRS and/or inform individuals for whom English is a second language of their tax rights and responsibilities. The IRS may award grants to qualifying organizations to fund one-year, two-year or three-year project periods.

The 2004 LITC Application Package and Guidelines, Publication 3319, includes several changes that are being planned to improve IRS's understanding of and involvement with the technical components of the LITC Program. Among the changes, IRS is planning to work with clinics to establish issue committees, develop more comprehensive program standards, improve communications, and increase the emphasis on education and outreach programs to taxpayers for whom English is a second language. In addition, the package provides an explanation of “ancillary” as it relates to tax return preparation.

The costs of preparing and submitting an application are the responsibility of each applicant. Each application will be given due consideration and the LITC Program Office will main notification letters to each applicant.

Selection Criteria

Applications that pass the eligibility screening process will be numerically ranked in each of the areas listed below based on the information contained in their proposed program plan. Each criterion reflects the maximum number of points that may be assigned. In assigning numerical points, the IRS will evaluate the program plan based on how it will assist in accomplishment of the IRS mission and goals and meeting the LITC statutory requirements as stated elsewhere in the application package. Organizations can receive a maximum of 100 points. If you are applying for more than one qualifying activity (i.e., representation, referral, ESL, or combination thereof) each type of program will be evaluated separately. The ranking points will be assigned as follows:

A. Quality of programs offered to assist low income taxpayers or individuals for whom English is a second language, including (Maximum 75 points)—

1. Qualifications of administrators and qualified representatives;

2. qualifications and tax expertise of qualified representatives;

3. comprehensiveness of services to be provided;

4. the amount of time devoted to the program by clinic staff;

5. training clinic participants will be provided;

6. plans for supervising clinic participants;

7. procedures for ensuring the confidentiality of taxpayer information;

8. publicity of clinic operations; and

9. the dates and days and hours of clinic operation.

B. Experience in sponsoring a tax clinic where individuals with tax controversies with the IRS were represented; or

Experience in sponsoring a tax clinic where individuals with tax controversies with the IRS were referred; or

Experience in providing a program to inform individuals for whom English is a second language about their rights and responsibilities. (Maximum 10 points)

C. Quality of grant administration and internal accounting procedures. (Maximum 10 points)

D. Number of low income and ESL taxpayers in geographical area. (Maximum 5 points)

Other Considerations

Please note that the IRS Volunteer Income Tax Assistance (VITA) Program is a separate and distinct program from the LITC grant program. Organizations currently participating in the VITA Program may be eligible to apply for a LITC grant if they meet the criteria and qualifications outlined in the LITC Grant Application Package & Guidelines (Publication 3319). Organizations that seek to operate both VITA and LITC programs must maintain separate and distinct programs to ensure proper cost allocation for LITC grant funds and adherence to both VITA and LITC program rules and regulations. In addition to the foregoing criteria, to foster parity regarding clinic availability and accessibility for taxpayers nationwide, the IRS will consider the geographic area of applicants as part of the decision making process. The IRS will also seek to attain a proper balance of academic and non-profit organizations as well as a proper balance of start-up and existing clinics.

Comments

Interested parties are encouraged to provide comments on the IRS's administration of the grant program on an ongoing basis.

Nina E. Olson,
National Taxpayer Advocate, Internal Revenue Service.

[FR Doc. 03-9780 Filed 4-18-03; 8:45 am]

BILLING CODE 4830-01-P